DEPARTMENT OF HOMELAND SECURITY

[Docket No. DHS-2014-0063]

Homeland Security Advisory Council—New Tasking

AGENCY: The Office of Policy, DHS.

ACTION: Notice of task assignment for the Homeland Security Advisory Council.

SUMMARY: The Secretary of the Department of Homeland Security (DHS), Jeh Johnson tasked his Homeland Security Advisory Council (HSAC) to establish a subcommittee entitled the Foreign Fighter Task Force on Thursday, October 29, 2014. The Foreign Fighter Task Force will provide ongoing recommendations to the Homeland Security Advisory Council on the foreign fighter threat and its impact on our homeland security.

This notice informs the public of the establishment of the Foreign Fighter Task Force and is not a solicitation for membership.

FOR FURTHER INFORMATION CONTACT: Ben Haiman, Deputy Executive Director, Homeland Security Advisory Council and Director, Foreign Fighter Task Force at 202-447-3135 or Ben.Haiman@hq.dhs.gov.

SUPPLEMENTARY INFORMATION: The Homeland Security Advisory Council provides organizationally independent, strategic, timely, specific, and actionable advice and recommendations for the consideration of the Secretary of the Department of Homeland Security on matters related to homeland security. The Homeland Security Advisory Council is comprised of leaders of local law enforcement, first responders, state and local government, the private sector, and academia.

Tasking: The Foreign Fighter Task Force will develop findings and recommendations in the following topic areas: (1) What strategies can the Department of Homeland Security employ to prevent Americans from joining foreign fighting efforts abroad? (2) Examine whether current border, immigration, and transportation security policies are appropriate in addressing the return of foreign fighters. (3) Recommend strategies to effectively prevent individuals, returning from foreign fighting experiences, from engaging in violence within their communities.

Schedule: The Foreign Fighters Task Force's findings and recommendations will be submitted to the Homeland Security Advisory Council for their deliberation and vote during its upcoming public meetings. Once the report(s) are voted on by the Homeland Security Advisory Council, they will be sent to the Secretary for his review and acceptance. The Foreign Fighter Task Force findings and recommendations will be submitted to the Homeland Security Advisory Council, first through an interim report, than on a standing basis thereafter following the publication of this tasking on the listed date.

Dated: November 12, 2014.
Mike Miron,
Director, Homeland Security Advisory Council, DHS.

[FR Doc. 2014-27201 Filed 11-17-14; 8:45 am]

BILLING CODE 9110-9M-P